DEPARTMENT OF TRANSPORTATION

Federal Aviation Administration

14 CFR Part 39

[Docket No. FAA-2014-0775; Directorate Identifier 2014-NM-046-AD; Amendment 39-18467; AD 2016-07-22]

RIN 2120-AA64

Airworthiness Directives; Airbus Airplanes

AGENCY: Federal Aviation Administration (FAA), Department of Transportation (DOT).

ACTION: Final rule.

SUMMARY: We are adopting a new airworthiness directive (AD) for all Airbus Model A300 B4-600, B4-600R, and F4-600R series airplanes, Model A300 C4-605R Variant F airplanes (collectively called Model A300-600 series airplanes), and Model A310 series airplanes. This AD was prompted by reports of insufficient clearance for the electrical wiring bundles in the leading and trailing edges of the right-hand (RH) and left-hand (LH) wings. This AD requires modifying the electrical routing installation at the RH and LH wings. We are issuing this AD to prevent insufficient clearance of electrical wiring bundles located in the leading and trailing edges of the RH and LH wings, which could lead to chafing damage and arcing, possibly resulting in an on-board fire.

DATES: This AD becomes effective May 16, 2016.

The Director of the Federal Register approved the incorporation by reference of certain publications listed in this AD as of May 16, 2016.

ADDRESSES: You may examine the AD docket on the Internet at http://www.regulations.gov/#!docketDetail;D=FAA-2014-0775; or in person at the Docket Management Facility, U.S. Department of Transportation, Docket Operations, M-30, West Building Ground Floor, Room W12-140, 1200 New Jersey Avenue SE., Washington, DC.

For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0775.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 by adding an AD that would apply to all Airbus Model A300 B4-600, B4-600R, and F4-600R series airplanes and Model A300 C4-605R Variant F airplanes (collectively called Model A300-600 series airplanes); and Model A310 series airplanes. The NPRM published in the Federal Register on November 21, 2014 (79 FR 69377) (“the NPRM”).

The European Aviation Safety Agency (EASA), which is the Technical Agent for the Member States of the European Union, has issued EASA Airworthiness Directive 2015-0176, dated August 25, 2015 (referred to after this as the Mandatory Continuing Airworthiness Information, or “the MCAI”), to correct an unsafe condition for all Airbus Model A300 B4-600, B4-600R, and F4-600R series airplanes, and Model A300 C4-605R Variant F airplanes (collectively called Model A300-600 series airplanes); and Model A310 series airplanes. The MCAI states:

Following publication of FAA SFAR 88 (Special Federal Aviation Regulation 88) [http://rgl.faa.gov/Regulatory_and_Guidance_Library%5CrgFAR.nsf/0/EEFB3F94451DC06286256C93004F5E07?OpenDocument), EASA issued AD 2006-0076 (http://ad.easa.europa.eu/ad/2006-0076] requiring inspection and corrective action to improve the explosion risk protection system for the left hand (LH) and right hand (RH) wings on A300, A300-600, A300-600ST and A310 aeroplanes.

For A300-600, A300-600ST and A310 aeroplanes, the required detailed visual inspections of electrical bundles located in the leading and trailing edges of the RH and LH wings and a review of the wing electrical installation on the final assembly line have shown that the wing electrical installation does not comply with the minimum distance inspection criteria to the surrounding structure in a few wing locations.

This condition, if not detected and corrected, could lead to damage on the electrical harnesses and on the surrounding structure.

To address this unsafe condition, Airbus developed an improvement of the wing electrical installation to prevent possible chafing and subsequent damage to the electrical harnesses and surrounding structure.

Consequently EASA issued AD 2014-0034 [http://www.regulations.gov/#!documentDetail;D=FAA-2014-0775-0002] to require installation of new bracket assemblies to ensure the clearance between the wiring and the structure, and installation of protective split sleeves as mechanical protection to the electrical harnesses.

Since EASA AD 2014-0034 was issued, during embodiment of Airbus Service Bulletin (SB) A300-24-6103 Revision 02 on an aeroplane, an installation problem was identified, which prompted Airbus to revise SB A300-24-9014 Revision 01, and A300-24-6103 Revision 02.

Service Bulletin Information Transmission (SBIT) 14-0044 Revision 01 dated 06 February 2015 recommended to postpone embodiment of these two SB's, and to wait for the availability of Airbus SB A300-24-9014 Revision 02 and A300-24-6103 Revision 03.

For the reasons described above, this [EASA]AD retains the requirement of the EASA AD 2014-0034, which is superseded, and requires in addition for the A300-600 and A300-600ST aeroplanes only, installation of new bracket assemblies in shroud box (LH and RH side) to ensure adequate clearance between wirings and flap track carriage (LH and RH side).

Required actions include modifying the electrical routing installation at the RH and LH wings by installing new bracket assemblies to ensure adequate clearance between the wiring and the structure, and installing protective split sleeves as mechanical protection to the electrical harnesses.

You may examine the MCAI in the AD docket on the Internet at http://www.regulations.gov/#!documentDetail;D=FAA-2014-0775-0002.

Comments

We gave the public the opportunity to participate in developing this AD. The following presents the comments received on the NPRM and the FAA's response to each comment.

Requests To Use the Latest Service Information

FedEx and United Parcel Service (UPS) requested that the NPRM reference the latest revision of Airbus Service Bulletin A300-24-6103, Revision 02, dated February 7, 2013. UPS stated that Airbus released an operators information transmission in October 2014, which stated that an operator reported that the installation of the clamps was not possible. UPS and FedEx stated that a revised version of the service information should be mandated.

We agree with the commenters' request. Since the NPRM was issued, we have reviewed Airbus Service Bulletin A300-24-6103, Revision 03, dated July 3, 2015, excluding Appendices 01, 02, 03, and 04, Revision 03, dated July 3, 2015; and Airbus Service Bulletin A310-24-2105, Revision 02, dated January 5, 2015, excluding Appendix 01, Revision 02, dated January 5, 2015. Airbus Service Bulletin A300-24-6103, Revision 03, dated July 3, 2015, excluding Appendices 01, 02, 03, and 04, Revision 03, dated July 3, 2015, adds an installation of new bracket assemblies in the shroud box (LH and RH sides) to the modification. Airbus Service Bulletin A310-24-2105, Revision 02, dated January 5, 2015, excluding Appendix 01, Revision 02, dated January 5, 2015, only includes minor changes to the modification. We have updated paragraphs (g) and (h) of this AD accordingly. Similar to the MCAI, credit is not given for Airbus Service Bulletin A300-24-6103, Revision 02, dated February 7, 2013.

Request To Revise Costs of Compliance Section

FedEx requested that we revise the Costs of Compliance section of the NPRM. FedEx stated that the 37 work-hour estimate is consistent with what is specified in Airbus Service Bulletin A300-24-6103, Revision 02, dated February 7, 2013. However, FedEx stated that Airbus Service Bulletin A310-24-2105, Revision 01, dated December 11, 2013, shows an estimate of up to 55.5 work-hours, and does not include preparation and set up time. Airbus also stated that, from their experience, the work-hours tend to be understated compared to the actual time required to accomplish the actions. FedEx commented that it believes an estimate of 60 work-hours is more realistic. FedEx stated that it must be noted that 102 FedEx-registered airplanes are listed in the effectivity section of both service bulletins, and that the overall cost assessment omits the fact that over half of the total U.S. fleet cost will be borne by a single operator.

We agree with the commenter's request to revise the estimated costs of compliance; however, we have used the cost estimate identified in Airbus Service Bulletin A310-24-2105, Revision 02, dated January 5, 2015, excluding Appendix 01, Revision 02, dated January 5, 2015, which does include access and close-up work-hours. We have revised the Costs of Compliance section of this final rule to specify up to 56 work-hours per product to comply with the basic requirements of this AD.

Request To Supersede and Revise the Affected ADs Paragraph of the Proposed AD

FedEx requested that AD 2006-22-07, Amendment 39-14800 (71 FR 62890, October 27, 2006) (“AD 2006-22-07”), be listed as an affected AD in the proposed AD, and that the NPRM supersede AD 2006-22-07. FedEx stated that the manufacturer has linked the NPRM to AD 2006-22-07.

FedEx commented that it has complied with the proposed requirements of the proposed AD, and all but two airplanes were found to be compliant with the clearance requirements specified in the applicable service information. FedEx stated that it has contacted the manufacturer for an approved method of compliance. FedEx stated that Airbus issued an EASA-approved technical adaptation requiring that the affected wire bundles be wrapped and a repetitive inspection be performed until a permanent fix is available. FedEx stated that the permanent fix is “Airbus Service Bulletin A300-24-6103,” which was specified in the NPRM.

FedEx commented that the manufacturer has linked the NPRM to AD 2006-22-07 because Airbus Service Bulletin A300-24-6103 will act as terminating action for the requirements of AD 2006-22-07 and the NPRM. FedEx also stated that it thinks that all airplanes that comply with AD 2006-22-07 without requiring additional permanent modifications should be exempt from the NPRM.

We agree that AD 2006-22-07 and this AD are related; however, we disagree with the commenter's request to supersede AD 2006-22-07 and include that AD as an affected AD in paragraph (b) of this AD. We also disagree with the commenter's request to exempt airplanes that comply with AD 2006-22-07 from this AD.

Prior issues of Airbus Service Bulletin A300-24-6103 (issued before Revision 03, dated July 3, 2015) are not acceptable for compliance with this AD because this AD and AD 2006-22-07 address two different unsafe conditions and require different corrective actions. AD 2006-22-07 and prior issues of Airbus Service Bulletin A300-24-6103 (issued before Revision 03, dated July 3, 2015) do not address insufficient clearance of electrical wiring bundles located in the leading and trailing edges of the RH and LH wings, which is the unsafe condition identified in this final rule. Additional actions are required in Airbus Service Bulletin A300-24-6103, Revision 03, dated July 3, 2015, to address the unsafe conditions identified by this final rule that were not addressed on airplanes modified using previous issues of Airbus Service Bulletin A300-24-6103.

Therefore, this final rule will not supersede AD 2006-22-07. Regardless of the findings or corrective actions accomplished in accordance with AD 2006-22-07, the service information in this final rule must still be required. We have not change this final rule in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A300-24-6103, Revision 03, dated July 3, 2015, excluding Appendices 01, 02, 03, and 04, Revision 03, dated July 3, 2015; and Service Bulletin A310-24-2105, Revision 02, dated January 5, 2015, excluding Appendix 01, Revision 02, dated January 5, 2015. The service information describes procedures for modifying the electrical routing installation at the RH and LH wings. This service information is reasonably available because the interested parties have access to it through their normal course of business or by the means identified in the ADDRESSES section.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as Required for Compliance (RC) in any service information have a direct effect on detecting, preventing, resolving, or eliminating an identified unsafe condition.

As specified in a NOTE under the Accomplishment Instructions of the specified service information, procedures and tests that are identified as RC in any service information must be done to comply with the AD. However, procedures and tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC will require approval of an AMOC.

Costs of Compliance

We estimate that this AD affects 199 airplanes of U.S. registry.

We also estimate that it will take about 56 work-hours per product to comply with the basic requirements of this AD. The average labor rate is $85 per work-hour. Required parts would cost up to $18,000 per product. Based on these figures, we estimate the cost of this AD on U.S. operators to be $4,529,240, or $22,760 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0775; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-22 Airbus: Amendment 39-18467. Docket No. FAA-2014-0775; Directorate Identifier 2014-NM-046-AD.

(a) Effective Date

This AD becomes effective May 16, 2016.

(b) Affected ADs

None.

(c) Applicability

This AD applies to the airplanes identified in paragraphs (c)(1) and (c)(2) of this AD, certificated in any category.

(1) All Airbus Model A300 B4-601, B4-603, B4-620, and B4-622 airplanes; Model A300 B4-605R and B4-622R airplanes; Model A300 F4-605R and F4-622R airplanes; and Model A300 C4-605R Variant F airplanes.

(2) All Airbus Model A310-203, -204, -221, -222, -304, -322, -324, and -325 airplanes.

(d) Subject

Air Transport Association (ATA) of America Code 24, Electrical Power.

(e) Reason

This AD was prompted by reports of insufficient clearance for the electrical wiring bundles in the leading and trailing edges of the right-hand (RH) and left-hand (LH) wings. We are issuing this AD to detect and correct insufficient clearance of electrical wiring bundles located in the leading and trailing edges of the RH and LH wings, which could lead to chafing damage and arcing, possibly resulting in an on-board fire.

(f) Compliance

Comply with this AD within the compliance times specified, unless already done.

(g) Modification

Within 30 months after the effective date of this AD: Modify the electrical routing installation at the RH and LH wings in accordance with the Accomplishment Instructions of Airbus Service Bulletin A300-24-6103, Revision 03, July 3, 2015, excluding Appendices 01, 02, 03, and 04, Revision 03, dated July 3, 2015; or Airbus Service Bulletin A310-24-2105, Revision 02, dated January 5, 2015, excluding Appendix 01, Revision 02, dated January 5, 2015; as applicable; except as required by paragraph (h) of this AD.

(h) Exception to Service Information

If, during any modification required by paragraph (g) of this AD: Any gap between the structure and the clamp has insufficient clearance, in accordance with the Accomplishment Instructions of Airbus Service Bulletin A300-24-6103, Revision 03, July 3, 2015, excluding Appendices 01, 02, 03, and 04, Revision 03, dated July 3, 2015; or Airbus Service Bulletin A310-24-2105, Revision 02, dated January 5, 2015, excluding Appendix 01, Revision 02, dated January 5, 2015; as applicable; before further flight, repair using a method approved by the Manager, International Branch, ANM-116, Transport Airplane Directorate, FAA; or the European Aviation Safety Agency (EASA); or Airbus's EASA Design Organization Approval (DOA).

(i) Credit for Previous Actions

This paragraph provides credit for the actions required by paragraph (g) of this AD, if those actions were performed before the effective date of this AD using Airbus Service Bulletin A310-24-2105, dated March 20, 2013; or Airbus Service Bulletin A310-24-2105, Revision 01, dated December 11, 2013.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (h) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA Airworthiness Directive 2015-0176, dated August 25, 2015, for related information. This MCAI may be found in the AD docket on the Internet at http://www.regulations.gov/#!documentDetail;D=FAA-2014-0775-0002.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-24-6103, Revision 03, dated July 3, 2015, excluding Appendices 01, 02, 03, and 04, Revision 03, dated July 3, 2015.

(ii) Airbus Service Bulletin A310-24-2105, Revision 02, dated January 5, 2015, excluding Appendix 01, Revision 02, dated January 5, 2015.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 24, 2016.
Michael Kaszycki,
Acting Manager, Transport Airplane Directorate, Aircraft Certification Service.

[FR Doc. 2016-07373 Filed 4-8-16; 8:45 am]

BILLING CODE 4910-13-P